DEPARTMENT OF COMMERCE

National Oceanic and Atmospheric Administration

50 CFR Part 679

[Docket No. 0810141351-0040-03]

RIN 0648-XL28

Fisheries of the Exclusive Economic Zone Off Alaska; Bering Sea and Aleutian Islands; Final 2009 and 2010 Harvest Specifications for Groundfish; Correction

AGENCY: National Marine Fisheries Service (NMFS), National Oceanic and Atmospheric Administration (NOAA), Commerce.

ACTION: Correcting amendment.

SUMMARY: On February 17, 2009, NMFS published the final 2009 and 2010 harvest specifications for groundfish of the Bering Sea and Aleutian Islands (BSAI) management area. Table 8c of that document contained the final 2009 and 2010 prohibited species bycatch allowances for the BSAI trawl limited access sector and non-trawl fisheries of the BSAI management area. That table contained an error that is corrected in this rule.

DATES: Effective 1200 hrs, Alaska local time (A.l.t.) February 3, 2010, through 2400 hrs, A.l.t., December 31, 2010.

FOR FURTHER INFORMATION CONTACT: Mary Furuness, 907-586-7228.

SUPPLEMENTARY INFORMATION: Federal regulations at 50 CFR part 679 implement the Fisheries Management Plan (FMP) for groundfish of the BSAI and govern the groundfish fisheries in the BSAI. The North Pacific Fishery Management Council (Council) prepared the FMP, and NMFS approved it under the Magnuson-Stevens Fishery Conservation and Management Act (Magnuson-Stevens Act). General regulations governing U.S. fisheries also appear at 50 CFR part 600.

On February 17, 2009 (74 FR 7359) NMFS published harvest specifications for groundfish of the BSAI that included Table 8c, which allocated the final 2009 and 2010 prohibited species bycatch allowances for the BSAI trawl limited access sector and non-trawl fisheries of the BSAI management area. However, NMFS inadvertently left out the date of April 15, 2010, associated with the 2010 allocation of halibut mortality for the rockfish fishery category for the BSAI trawl limited access sector. This document corrects the error and republishes Table 8c in its entirety. Without this correction, the rockfish fishery for this sector opened on January 20, 2010, instead of April 15, 2010, as intended by the Council and NMFS to address operational issues raised by the fisheries participants.

Correction

Accordingly, the revised Table 8c from the temporary rule (FR Doc. E9-3297) published on February 17, 2009, at 74 FR 7359, is corrected as follows:

On page 7371, Table 8c is corrected and republished in its entirety to read as follows:

Table 8c—Final 2009 and 2010 Prohibited Species Bycatch Allowances for the Bsai Trawl Limited Access Sector and Non-Trawl Fisheries
BSAI trawl limited access fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 187 | 47,397 | 1,176,494 | 346,228 | 1,185,500
Rock sole/flathead sole/other flatfish ² | 0 | 0 | 0 | 0 | 0
Turbot/arrowtooth/sablefish ³ | 0 | 0 | 0 | 0 | 0
Rockfish (in 2010 April 15-December 31) | 5 | 0 | 2,000 | 60,000 | 1,000
Pacific cod | 508 | 6,000 | 50,000 | 60,000 | 50,000
Pollock/Atka mackerel/other species ⁴ | 175 | 400 | 20,000 | 5000 | 5,000
Total BSAI trawl limited access PSC | 875 | 53,797 | 1,248,494 | 411,228 | 1,241,500

Non-trawl fisheries | Catcher processor | Catcher vessel
Pacific cod—Total | 760 | 15
January 1-June 10 | 314 | 10
June 10-August 15 | 0 | 3
August 15-December 31 | 446 | 2
Other non-trawl—Total | 58
May 1-December 31 | 58
Groundfish pot and jig | Exempt
Sablefish hook-and-line | Exempt
Total non-trawl PSC | 833
¹ Refer to § 679.2 for definitions of areas.
² “Other flatfish” for PSC monitoring includes all flatfish species, except for halibut (a prohibited species), flathead sole, Greenland turbot, rock sole, yellowfin sole, and arrowtooth flounder.
³ Greenland turbot, arrowtooth flounder, and sablefish fishery category.
⁴ “Other species” for PSC monitoring includes sculpins, sharks, skates, and octopus.

Classification

This action is authorized under 50 CFR 679.20 and is exempt from review under E.O. 12866.

Pursuant to 5 U.S.C. 553(b)(B), the Acting Assistant Administrator of Fisheries (AA) finds good cause to waive prior notice and opportunity for public comment, as notice and comment would be impracticable and contrary to the public interest. Through this action, NOAA seeks to correct the inadvertent omission of the 2010 dates associated with the allocation of halibut mortality for the rockfish category for the BSAI trawl limited access sector. Prior notice and an opportunity for public comment on this action would be impracticable and contrary to the public interest for the following reasons: Corrections to ensure the rule's compliance with the intent of the Council and NMFS to address operational issues raised by fisheries participants must be made immediately; since the rockfish fishery for this sector opened prematurely, on January 20, 2010, instead of the intended date of April 15, 2010. A premature opening of the fishery would fail to limit directed fishing for rockfish to a time period when all interested participants would have equal opportunity to participate and would unfairly advantage some participants at the expense of other participants. Additionally, this correction must be made immediately in order to give the regulated community as much time as is practical to plan upcoming fishing activities. As such, prior notice and an opportunity for public comment on these measures are impracticable and contrary to the public interest because NMFS only recently discovered these errors and must ensure the timely, uninterrupted, comprehensive and rational management of the fisheries consistent with the Magnuson-Stevens Act.

Additionally, for the reasons listed above, the AA finds good cause to waive the 30-day delay in the effective date under 5 U.S.C. 553(d)(3), as such procedures would be contrary to the public interest. Because prior notice and opportunity for public comment are not required for this rule by 5 U.S.C. 553, or any other law, the analytical requirements of the Regulatory Flexibility Act, 5 U.S.C. 601 et seq. are inapplicable.

Authority: 16 U.S.C. 1801 et seq.

Dated: January 28, 2010.
Samuel D. Rauch III,
Deputy Assistant Administrator for Regulatory Programs, National Marine Fisheries Service.

[FR Doc. 2010-2284 Filed 2-2-10; 8:45 am]

BILLING CODE 3510-22-P